DEPARTMENT OF DEFENSE

Department of the Army

Notice of Availability for Exclusive, Non-Exclusive, or Partially-Exclusive Licensing of an Invention Concerning Method for Estimating Core Body Temperature From Heart Rate

AGENCY: Department of the Army, DoD.

ACTION: Notice.

SUMMARY: Announcement is made of the availability for licensing of the invention set forth in U.S. Provisional Patent Application Serial No. 61/739,765, entitled “Method for Estimating Core Body Temperature from Heart Rate” filed on December 20, 2012. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to a model which was developed to examine the response of steady state Heart Rate and core temperature in different environments and data from elite athletes where end point core temperatures exceed a definitive temperature.

Brenda S. Bowen,
Army Federal Register Liaison Officer .

[FR Doc. 2014-00148 Filed 1-8-14; 8:45 am]

BILLING CODE 3710-08-P